DEPARTMENT OF TRANSPORTATION

Federal Aviation Administration

[Summary Notice No. PE-2014-21]

Petition for Exemption; Summary of Petition Received

AGENCY: Federal Aviation Administration (FAA), DOT.

ACTION: Notice of petition for exemption received.

SUMMARY: This notice contains a summary of a petition seeking relief from specified requirements of 14 CFR. The purpose of this notice is to improve the public's awareness of, and participation in, this aspect of FAA's regulatory activities. Neither publication of this notice nor the inclusion or omission of information in the summary is intended to affect the legal status of the petition or its final disposition.

DATES: Comments on this petition must identify the petition docket number and must be received on or before March 25, 2014.

ADDRESSES: You may send comments identified by Docket Number FAA-2009-1188 using any of the following methods:

• Government-wide rulemaking Web site: Go to http://www.regulations.gov and follow the instructions for sending your comments electronically.

• Mail: Send comments to the Docket Management Facility; U.S. Department of Transportation, 1200 New Jersey Avenue SE., West Building Ground Floor, Room W12-140, Washington, DC 20590.

• Fax: Fax comments to the Docket Management Facility at 202-493-2251.

• Hand Delivery: Bring comments to the Docket Management Facility in Room W12-140 of the West Building Ground Floor at 1200 New Jersey Avenue SE., Washington, DC, between 9 a.m. and 5 p.m., Monday through Friday, except Federal holidays.

Privacy: We will post all comments we receive, without change, to http://www.regulations.gov, including any personal information you provide. Using the search function of our docket Web site, anyone can find and read the comments received into any of our dockets, including the name of the individual sending the comment (or signing the comment for an association, business, labor union, etc.). You may review DOT's complete Privacy Act Statement in the Federal Register published on April 11, 2000 (65 FR 19477-78).

Docket: To read background documents or comments received, go to http://www.regulations.gov at any time or to the Docket Management Facility in Room W12-140 of the West Building Ground Floor at 1200 New Jersey Avenue SE., Washington, DC, between 9 a.m. and 5 p.m., Monday through Friday, except Federal holidays.

FOR FURTHER INFORMATION CONTACT: Katherine L. Haley, ARM-203, Federal Aviation Administration, Office of Rulemaking, 800 Independence Ave. SW., Washington, DC 20591; email Katherine.L.Haley@faa.gov; (202) 493 5708.

This notice is published pursuant to 14 CFR 11.85.

Issued in Washington, DC, on February 27, 2014.
Lirio Liu,
Acting Director, Office of Rulemaking.

Petition for Exemption

Docket No.: FAA-2009-1188.

Petitioner: CAE Simuflite, Inc.

Section of 14 CFR Affected:

14 CFR §§ 91.9(a) and 91.531(a)(1) and (2).

Description of Relief Sought:

Petitioner requests modifications to the existing Exemption No. 10039A, which permits the petitioner and operators of Cessna Citation airplanes covered by the CE-500 type rating to operate those airplanes with a single pilot. The petitioner is requesting the conditions and limitations be changed to allow CAE pilots who satisfactorily complete CAE Simuflite's part 142 FAA approved initial or renewal curriculum to receive credit for previous ground training specific to aircraft systems. The previous training would be credited towards CAE Simuflite's FAA approved part 142 single pilot curriculum under certain conditions.

[FR Doc. 2014-04804 Filed 3-4-14; 8:45 am]

BILLING CODE 4910-13-P